DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Alaska Railroad Corporation

[Docket Number FRA-2002-12407]

The Alaska Railroad Corporation (ARRC) of Anchorage, Alaska, has petitioned the Federal Railroad Administration (FRA) for a temporary waiver of compliance from the requirements of the Railroad Locomotive Safety Standards, 49 CFR part 229.137, Locomotive Cab Sanitation.

The Alaska Railroad Corporation is asking for an extension of time for a period of three (3) years to make modifications and conversions to 52 locomotives to bring them into compliance with the Locomotive Cab Sanitation Rule. These conversions need to take place in the wintertime outside of their busy season. However, the maximum they are able to remove from service in the wintertime is approximately 10 locomotives from a fleet consisting of 52 locomotives of which 27 locomotives have already been converted and are in compliance. This leaves a total of 25 locomotives that need to be converted. The three (3) year time period that is requested should be quite adequate. This is on account of a lack of availability of funds and service requirements so as not to hinder their normal operation.

At present, the ARRC is currently utilizing portable toilets and will continue to use them until such time that their fleet is brought into compliance with federal regulations. The ARRC will endeavor to utilize non-complying locomotives in the lead position as little as possible.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-12407) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's web site at http://dms.dot.gov.

Issued in Washington, DC on July 22, 2002.
Grady C. Cothen, Jr.,
Deputy Associate Administrator for Safety Standards and Program Development.

[FR Doc. 02-19131 Filed 7-29-02; 8:45 am]

BILLING CODE 4910-06-P